DEPARTMENT OF COMMERCE

National Oceanic and Atmospheric Administration

50 CFR Part 679

[Docket No. 011218304-1304-01; I.D. 082802G]

Fisheries of the Exclusive Economic Zone Off Alaska; Reallocation of Pollock in the Bering Sea subarea

AGENCY: National Marine Fisheries Service (NMFS), National Oceanic and Atmospheric Administration (NOAA), Commerce.

ACTION: Reallocation.

SUMMARY: NMFS is reallocating projected unused amounts of Bering Sea subarea (BS) pollock from the incidental catch account to the directed fisheries. This action is necessary to allow the 2002 total allowable catch (TAC) of pollock to be harvested.

DATES: Effective September 4, 2002 until 2400 hrs, A.l.t., December 31, 2002.

FOR FURTHER INFORMATION CONTACT: Mary Furuness, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(C)(1) and the American Fisheries Act (AFA) (Public Law 105-277, Division C, Title II), NMFS specified a pollock incidental catch allowance equal to 4 percent of the pollock total allowable catch after subtraction of the ten percent Community Development Quota reserve in the emergency rule implementing 2002 harvest specifications and associated management measures for the groundfish fisheries off Alaska (67 FR 956, January 8, 2002, and 67 FR 34860, May 16, 2002).

As of August 17, 2002, the Administrator, Alaska Region, NMFS (Regional Administrator), has determined that approximately 22,104 metric tons (mt) of pollock remain in the incidental catch account. Based on projected harvest rates of other groundfish species and the expected bycatch of pollock in those fisheries, the Regional Administrator has determined that 9,000 mt of pollock specified in the incidental catch account will not be necessary as incidental catch. Therefore, NMFS is apportioning the projected unused amount, 9,000 mt, of pollock from the incidental catch account to the directed fishing allowances established at § 679.20(a)(5)(i)(C)(2). This transfer will increase the allocation to catcher vessels harvesting pollock for processing by the inshore component by 4,500 mt, to catcher/processors and catcher vessels harvesting pollock for processing by catcher processors in the offshore component by 3,600 mt and to catcher vessels harvesting pollock for processing by motherships in the offshore component by 900 mt. Pursuant to § 679.20(a)(5)(i)(C)(2)(ii), no less than 8.5 percent of the 3,600 mt allocated to catcher processors in the offshore component, 306 mt, will be available for harvest only by eligible catcher vessels delivering to listed catcher processors.

Pursuant to § 679.20(a)(5)(i)(C)(3), Table 1, which is a revision of Table 11 in the Final 2002 Harvest Specifications (67 FR 956, January 8, 2002), revises the final 2002 BS subarea allocations to include the seven inshore catcher vessel pollock cooperatives that have been approved and permitted by NMFS for the 2002 fishing year consistent with this reallocation.

TABLE 1. BERING SEA SUBAREA INSHORE COOPERATIVE ALLOCATIONS
Cooperative name and member vessels | Sum of member vessel's official catch histories¹ | Percentage of inshore sector allocation | Annual co-op allocation
Akutan Catcher Vessel Association | 245,527 | 28.085% | 181,433
ALDEBARAN, ARCTIC EXPLORER, |  |  |
ARCTURUS, BLUE FOX, CAPE |  |  |
KIWANDA, COLUMBIA, DOMINATOR, |  |  |
EXODUS, FLYING CLOUD, |  |  |
GOLDEN DAWN, GOLDEN PISCES, |  |  |
HAZEL LORRAINE, INTREPID |  |  |
EXPLORER, LESLIE LEE, LISA MELINDA, |  |  |
MAJESTY, MARCY J, MARGARET LYN, |  |  |
NORDIC EXPLORER, NORTHERN |  |  |
PATRIOT, NORTHWEST EXPLORER, |  |  |
PACIFIC RAM, PACIFIC VIKING, |  |  |
PEGASUS, PEGGY JO, |  |  |
PERSEVERANCE, PREDATOR, RAVEN, |  |  |
ROYAL AMERICAN, SEEKER, |  |  |
SOVEREIGNTY, TRAVELER, |  |  |
VIKING EXPLORER |  |  |
Arctic Enterprise Association | 36,807 | 4.210% | 27,198
BRISTOL EXPLORER, |  |  |
OCEAN EXPLORER, PACIFIC EXPLORER |  |  |
Northern Victor Fleet Cooperative ANITA J, COLLIER BROTHERS, COMMODORE, EXCALIBUR II, GOLDRUSH, HALF MOON BAY, MISS BERDIE, NORDIC FURY, PACIFIC FURY, POSEIDON, ROYAL ATLANTIC, SUNSET BAY, STORM PETREL | 73,656 | 8.425% | 54,429
Peter Pan Fleet Cooperative AMBER DAWN, AMERICAN BEAUTY, ELIZABETH F, MORNING STAR, OCEAN LEADER, OCEANIC, PROVIDIAN, TOPAZ, WALTER N | 18,693 | 2.138% | 13,813
Unalaska Cooperative ALASKA ROSE, BERING ROSE, DESTINATION, GREAT PACIFIC, MESSIAH, MORNING STAR, MS AMY, PROGRESS, SEA WOLF, VANGUARD, WESTERN DAWN | 106,737 | 12.209% | 78,874
UniSea Fleet Cooperative ALSEA, AMERICAN EAGLE, ARGOSY, AURIGA, AURORA, DEFENDER, GUN-MAR, NORDIC STAR, PACIFIC MONARCH, SEADAWN, STARFISH, STARLITE | 201,566 | 23.056% | 148,948
Westward Fleet Cooperative A.J., ALASKAN COMMAND, ALYESKA, ARCTIC WIND, CAITLIN ANN, CHELSEA K, DONA MARTITA, FIERCE ALLEGIANCE, HICKORY WIND, OCEAN HOPE 3, PACIFIC KNIGHT, PACIFIC PRINCE, STARWARD, VIKING, WESTWARD I | 189,544 | 21.681% | 140,064
Open access AFA vessels | 1,707 | 0.195% | 1,261
Total inshore allocation | 874,238 | 100% | 646,020
¹ Under § 679.62(e)(1) the individual catch history for each vessel is equal to the vessel's best 2 of 3 years inshore pollock landings from 1995 through 1997 and includes landings to catcher/processors for vessels that made 500 or more mt of landings to catcher/processors from 1995 through 1997.

Classification

This action responds to the best available information recently obtained from the fishery. The Assistant Administrator for Fisheries, NOAA, finds good cause to waive the requirement to provide prior notice and opportunity for public comment pursuant to the authority set forth at 5 U.S.C. 553(b)(B) as such requirement is contrary to the public interest. This requirement is contrary to the public interest as it would delay the implementation of these measures in a timely fashion in order to allow full utilization of the pollock TAC and, therefore, reduce the public's ability to use and enjoy the fishery resource.

The Assistant Administrator for Fisheries, NOAA, also finds good cause to waive the 30-day delay in the effective date of this action under 5 U.S.C. 553(d)(3). This finding is based upon the reasons provided above for waiver of prior notice and opportunity for public comment.

This action is taken under 50 CFR 679.20, and is exempt from review under Executive Order 12866.

Authority: 16 U.S.C. 1801 et seq.

Dated: August 30, 2002.
Virginia M. Fay,
Acting Director, Office of Sustainable Fisheries, National Marine Fisheries Service.

[FR Doc. 02-22807 Filed 9-4-02; 1:52 pm]

BILLING CODE 3510-22-S